EXPORT-IMPORT BANK

[Public Notice 2015-6004]

Agency Information Collection Activities: Comment Request

AGENCY: Export-Import Bank of the United States.

ACTION: Submission for OMB review and comments request.

Form Title: EIB 84-01 Joint Application for Export Working Capital Guarantee.

SUMMARY: This is a joint application form for working capital loan guarantees provided by Ex-Im Bank and the Small Business Administration. This collection of information is necessary, pursuant to 12 U.S.C. 635(a)(1) and 15 U.S.C. 636(a)(14), to determine eligibility of the applicant for Ex-Im Bank or SBA assistance.

The Export-Import Bank has made a change to the report to have the applicant provide the number of employees or annual sales volume. That information is needed to determine whether or not they meet the SBA's definition of a small business. The applicant already provides their name, address and industry code (NAICS). These additional pieces of information will allow Ex-Im Bank to better track the extent to which its support assists U.S. small businesses.

The other change that Ex-Im Bank has made is to require the applicant to indicate whether it is a minority-owned business, women-owned business and/or veteran-owned business. Although answers to the questions are mandatory, the company may choose any one of the three answers: Yes/No/Not Disclosed. The option of “Not Disclosed” allows a company to consciously decline to answer the specific question should they not wish to provide that information.

The application tool can be reviewed at: http://www.exim.gov/sites/default/files/pub/pending/eib84-01.pdf.

DATES: Comments must be received on or before July 27, 2015 to be assured of consideration.

ADDRESSES: Comments may be submitted electronically on WWW.REGULATIONS.GOV or by mail to Michele Kuester, Export-Import Bank of the United States, 811 Vermont Ave. NW., Washington, DC 20571.

SUPPLEMENTARY INFORMATION:

Title and Form Number: EIB 84-01 Joint Application for Export Working Capital Guarantee.

OMB Number: 3048-0013.

Type of Review: Renewal.

Need and Use: This form provides Ex-Im Bank and Small Business Administration staff with the information necessary to determine if the application and transaction are eligible for Ex-Im Bank and SBA assistance under their export working capital guarantee programs.

Affected Public:

This form affects entities involved in the export of U.S. goods and services.

| Ex-Im Bank | SBA
Annual Number of Respondents | 475 | 188.
Estimated Time per Respondent | 2.5 hours | 2.5 hours.
Annual Burden Hours | 1,188 hours | 470 hours.
Frequency of Reporting of Use | Annually | Annually.

Government Expenses:

| Ex-Im Bank | SBA
Reviewing time per year | 950 hours | 376
Average Wages per Hour | $42.50 | $35.00
Average Cost per Year (time*wages) | $40,375 | $13,160
Benefits and Overhead | 20% | 100%
Total Agency Cost | $48,450 | $26,320
Total Government Cost | $74,770

Bonita Jones-McNeil,
Program Analyst, Office of the Chief Information Officer.

[FR Doc. 2015-12890 Filed 5-27-15; 8:45 am]

BILLING CODE 6690-01-P